DEPARTMENT OF ENERGY

Federal Energy Regulatory Commission

Combined Notice of Filings

Take notice that the Commission has received the following Natural Gas Pipeline Rate and Refund Report filings:

Filings Instituting Proceedings

Docket Number: PR18-83-000.

Applicants: Hope Gas, Inc.

Description: Tariff filing per 284.123(b),(e)+(g): HGI—2017 Tax Cuts and Jobs Act to be effective 9/1/2018.

Filed Date: 9/24/18.

Accession Number: 201809245080.

Comments Due: 5 p.m. ET 10/15/18.

284.123(g) Protests Due: 5 p.m. ET 11/23/18.

Docket Numbers: RP18-1219-000.

Applicants: Northern Natural Gas Company.

Description: Petition for a Limited Waiver of Northern Natural Gas Company.

Filed Date: 9/26/18.

Accession Number: 20180926-5083.

Comments Due: 5 p.m. ET 10/9/18.

Docket Numbers: RP18-1220-000.

Applicants: Viking Gas Transmission Company.

Description: § 4(d) Rate Filing: Update Non-Conforming Agreement AF0059 to be effective 11/1/2018.

Filed Date: 9/26/18.

Accession Number: 20180926-5101.

Comments Due: 5 p.m. ET 10/9/18.

Docket Numbers: RP18-1221-000.

Applicants: Transcontinental Gas Pipe Line Company, LLC.

Description: Compliance filing Annual Cash-Out Report Period Ending July 31, 2018.

Filed Date: 9/26/18.

Accession Number: 20180926-5122.

Comments Due: 5 p.m. ET 10/9/18.

Docket Numbers: RP18-1222-000.

Applicants: Southwest Gas Storage Company.

Description: § 4(d) Rate Filing: Negotiated Rate Filing to be effective 10/1/2018.

Filed Date: 9/26/18.

Accession Number: 20180926-5132.

Comments Due: 5 p.m. ET 10/9/18.

Docket Numbers: RP18-1223-000.

Applicants: Tennessee Gas Pipeline Company, L.L.C.

Description: § 4(d) Rate Filing: Pipeline Safety and Greenhouse Gas Cost Adjustment Mechanism—2018 to be effective 11/1/2018.

Filed Date: 9/26/18.

Accession Number: 20180926-5142.

Comments Due: 5 p.m. ET 10/9/18.

Docket Numbers: RP18-1224-000.

Applicants: LA Storage, LLC.

Description: Annual Penalty Disbursement Report of LA Storage, LLC.

Filed Date: 9/26/18.

Accession Number: 20180926-5193.

Comments Due: 5 p.m. ET 10/9/18.

Docket Numbers: RP18-1225-000.

Applicants: Mississippi Hub, LLC.

Description: Annual Penalty Disbursement Report of Mississippi Hub, LLC.

Filed Date: 9/26/18.

Accession Number: 20180926-5194.

Comments Due: 5 p.m. ET 10/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2018.
Nathaniel J. Davis, Sr.,
Deputy Secretary.

[FR Doc. 2018-21494 Filed 10-2-18; 8:45 am]

BILLING CODE 6717-01-P